ENVIRONMENTAL PROTECTION AGENCY

[FRL-9974-92-OEI]

Privacy Act of 1974; System of Records

AGENCY: Office of Environmental Information, Environmental Protection Agency.

ACTION: Notice of a new system of records.

SUMMARY: The U.S. Environmental Protection Agency's (EPA) Office of General Counsel is giving notice that it proposes to create a new system of records pursuant to the provisions of the Privacy Act of 1974. The Employment Law Practice Group Case Management System (ELPG-CMS) is being created to meet the needs of the Office of General Counsel, Employment Law Practice Group Attorney Advisors and Agency Leadership. This system will provide automated information support to the Employment Law Practice Group in tracing and managing the flow of labor and employment advice and litigation through the litigation process. The information collected in the case management program will be used to: Assign incoming cases and more efficiently track significant events in the litigation such as filing deadlines; electronically collect and store in one location all documents relevant to a case, including discovery materials, filings, submissions, case correspondence and case research information. The system is accessed from an internet browser using the Agency's secured portal.

DATES: Persons wishing to comment on this system or records notice must do so by April 2, 2018.

ADDRESSES: Submit your comments, identified by Docket ID No. EPA-HQ-OEI-2017-0307, by one of the following methods:

Regulations.gov: www.regulations.gov. Follow the online instructions for submitting comments.

Email: oei.docket@epa.gov.

Fax: 202-566-1752.

Mail: OEI Docket, Environmental Protection Agency, Mailcode: 2822T, 1200 Pennsylvania Ave. NW, Washington, DC 20460.

Hand Delivery: OEI Docket, EPA/DC, WJC West Building, Room 3334, 1301 Constitution Ave. NW, Washington, DC. Such deliveries are only accepted during the Docket's normal hours of operation, and special arrangements should be made for deliveries of boxed information.

Instructions: Direct your comments to Docket ID No. EPA-HQ-OEI-2017-0307. The EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov website is an “anonymous access” system for EPA, which means the EPA will not know your identity or contact information unless you provide it in the body of your comment. However, over 180 federal agencies use www.regulations.gov and some may require Personally Identifiable Information (PII) and some may not. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, WJC West Building, Room 3334, 1301 Constitution Ave. NW, Washington. DC. The Public Reading Room is open from 8:30 a.m. to 4:30 p.m., Monday through Friday excluding legal holidays. The telephone number for the Public Reading Room is (202) 566-1744, and the telephone number for the OEI Docket is (202) 566-1752.

FOR FURTHER INFORMATION CONTACT: Tia Y. Miller, Miller.Tia@epa.gov, (202) 564-8942.

SUPPLEMENTARY INFORMATION: The U.S. Environmental Protection Agency (EPA) plans to create a Privacy Act system of records for the Employment Law Practice Group Case Management System (ELPG-CMS). ELPG-CMS will be used by Employment Law attorneys in the Office General Counsel to: (1) Track, manage, and report on employment matters, including litigation, counseling, disciplinary actions, performance actions, and investigations into allegations of workplace harassment. (2) assign incoming cases and more efficiently track significant events in the litigation such as filing deadlines; (3) electronically collect and store in one location all documents relevant to a case, including discovery materials, filings, submissions, case correspondence and case research information; (4) electronically provide access to case records to the case attorney(s), OGC support staff, and supervisory attorneys; (5) electronically provide access to case records to other ELPG attorneys working on other cases who may benefit from information collected in other cases; (6) facilitate the filing of submissions before administrative tribunals that require electronic filing of case materials, such as the EEOC and MSPB, and (7) generate reports that will allow the agency to track and evaluate a variety of employment litigation trends such as recurring employee misconduct, imposed disciplinary penalties, discrimination claims, etc.

The implementation of the ELPG-CMS will have no effect on the privacy of individuals. The system is password-protected and access is restricted to Office of General Counsel Employment Law Practice Group Attorneys and legal staff who have a work-related need to utilize the information in the system. Permission-level assignments allow users access only to those functions for which they are authorized. All records are maintained in secure, access-controlled areas of buildings. The system is accessed from an internet browser using the Agency's secured portal and requires a user to have an established log-in name and password. The system is maintained at a contractor's secured and FedRAMP-certified data center, discretely located in Ashburn, VA. ELPG-CMS is maintained by the Office of General Counsel, Employment Law Practice Group.

SYSTEM NAME AND NUMBER

ELPG Case Management System (ELPG-CMS), EPA-76.

SECURITY CLASSIFICATION:

Unclassified.

SYSTEM LOCATION:

The paper records will be located at the EPA, Office of General Counsel, Employment Law Practice Group,1200 Pennsylvania Ave. NW, Washington, DC 20460-0001. The electronic records will be located on servers housed in Ashburn, VA.

SYSTEM MANAGER(S):

Associate General Counsel, Office of General Counsel, General Law Office, 1200 Pennsylvania Ave. NW, Mailcode 2377A, Washington, DC 20460.

AUTHORITY FOR MAINTENANCE OF THE SYSTEM:

Title VII of the Civil Rights Act of 1964, 42 U.S.C. 2000e et seq. (1964); Equal Pay Act of 1963 (EPA), 29 U.S.C. 206(d) (1963); Age Discrimination in Employment Act of 1967 (ADEA), 29 U.S.C. 621-634 (2013); Americans with Disabilities Act of 1990 (ADA), 42 U.S.C. 12101-12213 (2013) (amended 2008); Genetic Information Nondiscrimination Act of 2008 (GINA), Public Law 110-233, 122 Stat. 881; Sections 501 and 505 of the Rehabilitation Act of 1973, Public Law 93-112, 87 Stat. 355 (codified as amended in scattered sections of the 29 U.S.C and 31-41c U.S.C.); Uniformed Services Employment and Reemployment Rights of 1994, 38 U.S.C. 4301-4335 (1994); Civil Service Reform Act of 1978, Public Law 95-454, 92 Stat. 1111; Occupation Safety and Health Act of 1970, 29 U.S.C. ch. 15, § 651 et seq. (1971); Whistleblower Protection Enhancement Act of 2012 (WPEA), Public Law 112-199.

PURPOSE(S) OF THE SYSTEM:

The ELPG-CMS will allow ELPG to track case activity, generate mandated and ad hoc reports, and provide access to a centralized case management system to ELPG personnel.

These records are maintained in ELPG-CMS to support the Agency's Employment Law Practice Group in its efforts to track, manage, and report on employment matters, including litigation, counseling, disciplinary actions, performance actions, and investigations into allegations of workplace harassment.

CATEGORIES OF INDIVIDUALS COVERED BY THE SYSTEM:

Current and former EPA employees; Individuals who have filed, or had filed on their behalf, discrimination complaints against the EPA.

CATEGORIES OF RECORDS IN THE SYSTEM:

This system will contain general human resources elements, including First/Middle/Last Name, Appointment Type, Appointment Not-to-Exceed Date (if applicable), Service Computation Date for Leave Accrual Purposes, Service Computation Date for Retirement Eligibility Purposes, Position Title, Pay Plan, Occupational Series, Grade, Step, Supervisory Code, Bargaining Unit Status Code, Organizational Breakdown of Position's Location and Duty Station. The system will also contain Adverse Action case file information regarding employee counseling for misconduct or poor performance, disciplinary actions, adverse actions, performance-based actions, performance assistance plans, performance improvement plans, reasonable accommodation requests, including medical information. The system will also contain Office of Inspector General investigatory information regarding allegations of employee misconduct, including Reports of Investigation, Final Summary Reports, Memorandums of Interviews, Memorandum of Activity, and supporting exhibits.

The system will also contain documents created and/or submitted in anticipation of litigation, as well as during the course of litigation, including, but not limited to, Merit System Protection Board (MSPB) appeals, Equal Employment Opportunity Commission (EEOC) appeals, Department of Labor (DOL) appeals, Unemployment proceedings, Office of Special Counsel complaints, and Federal District Court proceedings.

Documents provided as part of litigation or employment law matters may include various types of information including, but not limited to, names, addresses, social security numbers, medical and/or financial information contained in pleadings, motions, exhibits, and any other documents provided to the Office of General Counsel.

RECORD SOURCE CATEGORIES:

Sources include Agency databases, employee personnel files, files maintained by the Office of Administration and Resources Management (OARM) Complainants, Complainant's attorneys or representatives, witnesses, EPA investigators, EPA Office of the Inspector General, other EPA personnel, Department of Justice, EEOC Administrative Judges, MSPB Judges, DOL Administrative Law Judges, and other persons with information relevant to an employment law matter before the Agency for consideration.

ROUTINE USES OF RECORDS MAINTAINED IN THE SYSTEM, INCLUDING CATEGORIES OF USERS AND PURPOSES OF SUCH USES:

EPA General routine uses A, B, C, E, F, G, H, I, J, K and L apply to this system. (73 FR 2245)

POLICIES AND PRACTICES FOR STORAGE OF RECORDS:

The records in the system are stored in paper files and computer databases. The computer storage devices are located at the contractor's FedRAMP approved facility in Ashburn, VA.

POLICIES AND PRACTICES FOR RETRIEVAL OF RECORDS:

The system will retrieve records employee name.

POLICIES AND PRACTICES FOR RETENTION AND DISPOSAL OF RECORDS:

Records stored in the system are subject to records schedule 1025.

ADMINISTRATIVE, TECHNICAL, AND PHYSICAL SAFEGUARDS:

Paper records are maintained in lockable file cabinets in secure, access-controlled rooms, areas, of buildings. Computer records are maintained in a secure password-protected environment. Access to computer records is limited to those who have a need to know the information contained in the records. Permission-level assignments allow users access only to those functions for which they are authorized. All records are maintained in secure, access controlled areas of buildings. The system is accessed from an internet browser using the Agency's secured portal and requires a user to have an established log-in name and password.

RECORD ACCESS PROCEDURES:

Individuals seeking access to information in this system of records about themselves should make a written request to the Freedom of Information Act Office. Requesters are required to provide adequate identification (e.g. driver's license, military identification card, employee badge or identification card). Additional identity verification procedures may be required, as warranted. Requests must meet the requirements of EPA regulations that implement the Privacy Act of 1974, at 40 CFR part 16.

CONTESTING RECORD PROCEDURES:

Requests for correction or amendment must identify the record to be changed and the corrective action sought. Complete EPA Privacy Act procedures are set out in EPA's Privacy Act regulations at 40 CFR part 16.

NOTIFICATION PROCEDURE:

Any individual who wants to know whether this system of records contains a record about him or her, who wants access to his or her record, or who wants to contest the contents of a record, should make a written request to the EPA National Privacy Program, Attn: Privacy Act Officer, WJC West, MC 2831T, 1200 Pennsylvania Ave. NW, Washington, DC 20460.

EXEMPTIONS PROMULGATED FOR THE SYSTEM:

None.

HISTORY:

None.

Dated: January 9, 2018.
Steven Fine,
Acting Chief Information Officer.

[FR Doc. 2018-04186 Filed 2-28-18; 8:45 am]

BILLING CODE 6560-50-P